DEPARTMENT OF HEALTH AND HUMAN SERVICES

Administration for Children and Families

Submission for OMB Review; Comment Request

Title: Advance Planning Document (APD) Process.

OMB No.: 0970-0417.

Description: The Advance Planning Document (APD) process, established in the rules at 45 CFR part 95, subpart F, is the procedure by which states request and obtain approval for Federal Financial Participation (FFP) in their cost of acquiring Automated Data Processing (ADP) equipment and services.

State child support agencies are required to establish and operate a federally approved statewide ADP and information retrieval system to assist in child support enforcement. States are required to submit an initial APD, containing information to assist the Secretary of the Department of Health and Human Services (HHS) in determining if the state computerized support enforcement project planning and implementation meets federal certification requirements needed for the approval of FFP. States are then required to submit annual APD updates to provide project status updates to HHS, as well as, to request ongoing FFP for systems development, enhancements, operations and maintenance. As-Needed APDs are also submitted to acquire FFP when major milestone are missed or significant changed to project schedules occur. Based on an assessment of the information provided in APD, states that do not meet the federal requirements necessary for approval are required to conduct periodic independent verification and validation (IV&V) services for high risk project oversight.

In addition to the APDs providing HHS with the information necessary to determine the allowable level of federal funding for state systems projects, states also submit associated procurement and data security documents, such as the request for proposals (RFPs), contracts, contract amendments, and the biennial security review reports.

Respondents: State Child Support Agencies.

Annual Burden Estimates
Instrument | Number of respondents | Number of responses per respondent | Average burden hours per response | Total burden hours
RFP and Contract | 54 | 1.5 | 4 | 324
Emergency Funding Request | 5 | .1 | 2 | 1
Biennial Reports | 54 | 1 | 1.50 | 81
Advance Planning Document | 34 | 1.2 | 120 | 4,896
Operational Advance Planning Document | 20 | 1 | 30 | 600
Independent Verification and Validation (ongoing) | 3 | 4 | 10 | 120
Independent Verification and Validation (semiannually) | 1 | 2 | 16 | 32
Independent Verification and Validation (quarterly) | 1 | 4 | 30 | 120
System Certification | 1 | 1 | 240 | 240

Estimated Total Annual Burden Hours: 6,414.

Additional Information

Copies of the proposed collection may be obtained by writing to the Administration for Children and Families, Office of Planning, Research and Evaluation, 330 C Street SW., Washington, DC 20201. Attention Reports Clearance Officer. All requests should be identified by the title of the information collection. Email address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2017-17196 Filed 8-14-17; 8:45 am]

BILLING CODE 4184-01-P